SOCIAL SECURITY ADMINISTRATION

[Docket No. SSA-2022-0019]

Privacy Act of 1974; Matching Program

AGENCY: Social Security Administration (SSA).

ACTION: Notice of a new matching program.

SUMMARY: In accordance with the provisions of the Privacy Act, as amended, this notice announces a new matching program with the Center for Medicare & Medicaid Services (CMS). This matching agreement establishes the terms, conditions, and safeguards under which CMS will disclose to SSA Medicare non-utilization information for Social Security Title II beneficiaries aged 90 and above. CMS will identify Medicare enrollees whose records have been inactive for three or more years. SSA will use this data as an indicator to select and prioritize cases for review to determine continued eligibility for benefits under Title II of the Social Security Act (Act). SSA will contact these individuals to verify ongoing eligibility. SSA will use this data for the purposes of fraud discovery and the analysis of fraud program operations; this agreement allows for SSA's Office of Anti-Fraud Programs (OAFP) to evaluate the data for the purposes of fraud detection. SSA will refer individual cases of suspected fraud, waste, or abuse to the Office of the Inspector General (OIG) for investigation.

DATES: The deadline to submit comments on the proposed matching program is August 1, 2022. The matching program will be applicable on July 1, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2022-0019 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2022-0019 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Melissa Feldhan, Division Director, Office of Privacy and Disclosure, Office of the General Counsel, Social Security Administration, G-401 WHR, 6401 Security Boulevard, Baltimore, MD 21235-6401, at telephone: (410) 965-1416, or send an email to Melissa.Feldhan@ssa.gov.

SUPPLEMENTARY INFORMATION:

Matthew Ramsey,
Executive Director, Office of Privacy and Disclosure, Office of the General Counsel.

Participating Agencies

SSA and CMS.

Authority for Conducting the Matching Program

The legal authority for this agreement is executed in compliance with the Privacy Act of 1974 (5 U.S.C. 552a), as amended by the Computer Matching and Privacy Protection Act (CMPPA) of 1988 (Pub. L. 100-503), including 5 U.S.C. 552a(b)(3); section 1106 of the Act (42 U.S.C. 1306); and Office of Management and Budget (OMB) guidelines pertaining to computer matching at 54 FR 25818 (June 19, 1989).

Section 202 of the Act (42 U.S.C. 402) outlines the requirements for eligibility to receive Old-Age, Survivors, and Disability Insurance Benefits under Title II of the Act. Section 205(c) of the Act (42 U.S.C. 405) directs the Commissioner of Social Security to verify the eligibility of a beneficiary.

This matching program employs CMS systems containing Protected Health Information (PHI) as defined by Health and Human Services (HHS) regulation “Standards for Privacy of Individually Identifiable Health Information” (45 CFR 160 and 164 (78 FR 5566, Parts A and E, published January 25, 2013)). PHI authorized by the routine uses may only be disclosed by CMS if, and as permitted or required by the “Standard for Privacy in Individually Identifiable Health Information,” (45 CFR 164.512d).

Purpose(s)

This matching program establishes the terms, conditions, and safeguards under which CMS will disclose to SSA Medicare non-utilization information for Social Security Title II beneficiaries aged 90 and above.

CMS will identify Medicare enrollees whose records have been inactive for three or more years. SSA will use this data as an indicator to select and prioritize cases for review to determine continued eligibility for benefits under Title II of the Act. SSA will contact these individuals to verify ongoing eligibility. In addition, SSA will use this data for the purposes of fraud discovery and the analysis of fraud program operations; this agreement allows for SSA's OAFP to evaluate the data for purposes of fraud detection. SSA will refer individual cases of suspected fraud, waste, or abuse to OIG for investigation.

Categories of Individuals

The individuals whose information is involved in this matching program are Social Security Title II beneficiaries aged 90 and above.

Categories of Records

SSA will provide CMS with a finder file containing the following information for each individual: (a) Title II Claim Account Number (CAN); (b) Title II Beneficiary Identification Code (BIC); (c) First Name, (d) Last Name, and (e) Date of birth.

CMS will provide SSA with a response file containing the following information for each individual: (a) CMS File Number (identified as a Health Insurance Claim Number (HICN) or Medicare Beneficiary Identifier (MBI)); (b) Whether CMS matched Beneficiary or individual is a Medicare beneficiary; (c) Whether individual is a Medicaid recipient, (d) Whether Medicare was used in the last 3 years; (e) Whether the beneficiary is a part of an HMO; (f) Whether the beneficiary lives in a nursing home; (g) Whether the beneficiary has private health insurance; (h) Whether the beneficiary has veteran's health insurance; or (i) Whether the beneficiary has Tricare insurance.

System(s) of Records

SSA will disclose to CMS information from the Master Beneficiary Record (MBR) (60-0090), last fully published January 11, 2006 (71 FR 1826), amended on December 10, 2007 (72 FR 69723), July 5, 2013 (78 FR 40542), July 3, 2018 (83 FR 31250-31251), and November 1, 2018 (83 FR 54969).

SSA will retain any information from the CMS response file in the Anti-Fraud Enterprise Solution (AFES) System of Records for OAFP fraud-related analytics, or data that leads to OAFP to initiate a fraud investigation (60-0388) published May 3, 2018 (83 FR 19588).

CMS will disclose to SSA information from the following Systems of Record (SORs): (a) National Claims History (NCH) (09-70-0558), published November 20, 2006 (71 FR 67137); (b) Enrollment Data Base (EDB) (09-70-0502), published February 26, 2008 at 73 FR 10249; and (c) The Long Term Care—Minimum Data Set (MDS) (90-70-0528), published March 19, 2007 at 72 FR 12801.

SSA's and CMS's SORs have routine uses permitting the disclosures needed to conduct this match.

[FR Doc. 2022-14096 Filed 6-30-22; 8:45 am]

BILLING CODE 4191-02-P